ENVIRONMENTAL PROTECTION AGENCY

[FRL-9196-5]

Science Advisory Board Staff Office; Notification of a Public Meeting of the Clean Air Scientific Advisory Committee (CASAC), Ambient Air Methods and Monitoring Subcommittee (AAMMS)

AGENCY: Environmental Protection Agency (EPA).

ACTION: Notice.

SUMMARY: The Environmental Protection Agency (EPA or Agency) Science Advisory Board (SAB) Staff Office announces a public meeting on September 29-30, 2010, of the Clean Air Scientific Advisory Committee (CASAC) Ambient Air Monitoring & Methods Subcommittee (AAMMS) to provide advice concerning the development of a guidance document on network design for near-road ambient air monitoring and the implementation of an associated pilot monitoring study.

DATES: The CASAC AAMMS meeting will be held on Wednesday, September 29, 2010 from 8:30 a.m. to 5 p.m. (Eastern Time) and on Thursday, September 30, 2010 from 8:30 a.m. to 12 p.m. (Eastern Time).

ADDRESSES: The public meeting will be held at the Marriott at Research Triangle Park, 4700 Guardian Drive, Durham, NC 27703, telephone (919) 941-6200.

FOR FURTHER INFORMATION CONTACT: Any member of the public who wants further information concerning the September 29-30, 2010 public meeting may contact Dr. Holly Stallworth, Designated Federal Officer (DFO), EPA Science Advisory Board (1400R), U.S. Environmental Protection Agency, 1200 Pennsylvania Avenue, NW., Washington, DC 20460; via telephone/voice mail (202) 546-2073; fax (202) 565-2098; or e-mail at stallworth.holly@epa.gov. General information concerning the CASAC and the CASAC documents can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. 2. The CASAC AAMMS will comply with the provisions of FACA and all appropriate SAB Staff Office procedural policies.

Section 109(d)(1) of the CAA requires that the Agency periodically review and revise, as appropriate, the air quality criteria and the NAAQS for the six “criteria” air pollutants. On February 9, 2010, EPA promulgated monitoring requirements as part of a final rule supporting the revision to the primary (health-based) NAAQS for nitrogen oxides. As part of the rulemaking, certain State and local air agencies are required to operate near-road nitrogen dioxide (NO2) monitors. To assist States and local air agencies, EPA is developing near-road monitoring guidance materials and planning an associated pilot monitoring study for which they have requested AAMMS' advice. This review will cover the multi-pollutant aspects of near-road monitoring, supplementing the NO2 focus with discussion of carbon monoxide, particulate matter and related measurements.

Technical Contacts: Any technical questions concerning the near-road monitoring requirements, planned guidance document, and pilot monitoring study can be directed to Mr. Nealson Watkins at 919-541-5522 or watkins.nealson@epa.gov.

Availability of Meeting Materials: The EPA draft guidance documents are posted at http://www.epa.gov/ttn/amtic/casacinf.html. Prior to the meetings, the agenda, charge questions and other materials for these AAMMS meetings will be accessible through the calendar link on the blue navigation bar at http://www.epa.gov/casac/.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. They should send their comments directly to the Designated Federal Officer for the relevant advisory committee. Oral Statements: To be placed on the public speaker list for the meeting, interested parties should notify Dr. Stallworth, DFO, by e-mail no later than September 22, 2010. Individuals making oral statements will be limited to five minutes per speaker. Written Statements: Written statements for the meeting should be received in the SAB Staff Office by September 22, 2010, so that the information may be made available to the CASAC AAMMS for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: August 27, 2010.
Vanessa T. Vu,
Director, EPA Science Advisory Board Staff Office.

[FR Doc. 2010-22073 Filed 9-2-10; 8:45 am]

BILLING CODE 6560-50-P